DEPARTMENT OF THE INTERIOR

Bureau of Land Management

[CO-120-1220-EA]

Establishment of a Moratorium on Issuance of New Special Recreation Permits

AGENCY: Bureau of Land Management, Portions of the Kremmling Resource Area and the Glenwood Springs Resource Area, CO.

ACTION: Notice.

SUMMARY: Public notice is hereby given that a moratorium on issuance of new Special Recreation Permits for river related commercial recreation activities in the Upper Colorado River Special Recreation Management Area is in effect. No new annual Special Recreation Permits (SRPs) for river related commercial recreation activities will be issued for the Upper Colorado River Special Recreation Management Area (SRMA) for a period of one year. The SRMA extends from approximately five miles east of Kremmling downstream to Dotsero. Only qualified commercial operators with a valid SRP for the 2000 season will be considered for renewals of annual or multi-year authorizations for the 2001 season and any future year until the moratorium is lifted. Any requests for changes in activity or location for existing permits will be reviewed and approved at the discretion of the authorized officer. The BLM will not accept any new applications nor issue any new SRPs to any individual, group, organization, corporation or company for the purpose of providing river related commercial recreation activities.

Proposals for land-based uses within the SRMA will be accepted and evaluated by BLM to determine if a public benefit or need exists. An outfitter's desire for an authorized use does not constitute a public need, nor does market generated demand in the form of solicited calls or letters. The BLM will evaluate the public benefit or need based on certain elements such as new technology, unmet public demand, areas with low user conflict, protection of natural resources, etc. to help meet the BLM's management objectives and to provide a high quality recreation service. Issuance of a permit is discretionary with the authorized officer. The BLM reserves the right to reject any or all proposals for additional uses on existing permits or for new authorizations. The BLM is not obligated to accept a proposal based on its monetary return to the agency since the primary management objective is to best serve the public need while protecting the natural resources and maintaining a quality recreation experience.

The BLM river managers in the Kremmling and Glenwood Springs Field Offices have determined that a moratorium on new Special Recreation Permits issued for the Upper Colorado River SRMA is needed to allow the managers to utilize their time more effectively on river management issues such as visitor services, permit compliance, site maintenance, and use level issues. Currently there are 72 permits issued by Kremmling and 26 issued by Glenwood Springs authorizing river related commercial activities including raft and inflatable kayak trips, canoe and kayak instruction, guided fishing, vehicle shuttles, equipment rentals, rock climbing, and photography. Due to the large number of outfitters operating in the river corridor, it is felt that the public's needs are being adequately met at the present time. Sales of outfitting businesses and any transfers of permits will be dealt with through the BLM Manual Handbook H8372-1 and the Recreation Use Permit Administration Manual/Policy Statement and Handbook/User Guide. In addition, no subleasing of a permit is allowed.

DATES: The moratorium on new permits will go into effect immediately as of the publication date and will remain in effect until February 1, 2002. At that time, river managers will determine if additional permits will be allowed or if a continuation of the moratorium on new permits issued is necessary.

FOR FURTHER INFORMATION CONTACT: Rich Rosene, Outdoor Recreation Planner, Kremmling Field Office, P.O. Box 68, Kremmling, CO 80459, (970) 724-3437; or Dorothy Morgan, Outdoor Recreation Planner, Glenwood Springs Field Office, P.O. Box 1009, Glenwood Springs, CO 81602, (970) 947-2806.

SUPPLEMENTARY INFORMATION: Authority for implementing this action is found in 43 CFR 8372.3.

Dated: February 22, 2001.
Dave Harr,
Field Manager, Kremmling Field Office.
Anne Huebner,
Field Manager, Glenwood Springs Field Office.

[FR Doc. 01-7966 Filed 3-29-01; 8:45 am]

BILLING CODE 4310-66-M